PRESIDIO TRUST

Public Health Service Hospital, The Presidio of San Francisco (Presidio), CA; Notice of Availability of Environmental Assessment and Scheduling of Public Comment Period

ACTION: The Presidio Trust (Trust) announces the availability for review of the Environmental Assessment (EA) for the Public Health Service Hospital (PHSH) project and the scheduling of a review period for the public to provide comment on the PHSH EA. The EA, prepared in accordance with the provisions of the National Environmental Policy Act (NEPA) (42 U.S.C. 4321 et seq.), evaluates the environmental impacts of rehabilitating and reusing historic buildings in the PHSH district of the Presidio. The Trust is inviting public review and comment on the PHSH EA until April 30, 2004. Public scoping comments were solicited as noticed in the Federal Register on September 9, 2003 (68 FR 53205-6) and again on November 12, 2003 (68 FR 64151-2).

Materials Available to the Public: The PHSH EA is being provided to agencies, organizations and individuals who have expressed an interest in the NEPA process for the PHSH project. The EA may be viewed at or downloaded from the Trust's Web site at http://www.presidio.gov, following the link from the home page. A printed copy may be requested at no charge at 415/561-5414 or phsh@presidiotrust.gov, or by writing the Presidio Trust, P.O. Box 29052, San Francisco, CA 94129-0052. The EA may also be reviewed in the Trust's library on the Presidio at 34 Graham Street, San Francisco, CA.

Public Review and Comment Period: Before finalizing the PHSH EA, the Trust invites the interested public to review the document and provide comment. Written comments may be submitted to John Pelka, NEPA Compliance Coordinator at 415/561-2790 (fax), phsh@presidiotrust.gov, or the address below, and must be transmitted or delivered no later than April 30, 2004. Please be aware that all written comments and information submitted will be made available to the public, including, without limitation, any postal address, e-mail address, phone number or other information contained in each submission. Additional public notice in the Federal Register, on the Trust's Web site and/or in written newsletters to those on the Trust's public mailing list will announce the date, location and details of a hearing for the public to provide oral comment on the PHSH EA. Following the close of the public review period on April 30, 2004, the Trust will consider and respond to any written or oral comments in the final PHSH EA.

FOR FURTHER INFORMATION CONTACT: John Pelka, NEPA Compliance Coordinator, the Presidio Trust, 34 Graham Street, P.O. Box 29052, San Francisco, CA 94129-0052, 415/561-5300.

Dated: February 24, 2004.
Karen A. Cook,
General Counsel.

[FR Doc. 04-4449 Filed 2-27-04; 8:45 am]

BILLING CODE 4310-4R-P